DEPARTMENT OF TRANSPORTATION

Federal Aviation Administration

14 CFR Part 71

[Docket No. FAA-2006-24926; Airspace Docket No. 06-ASW-1]

RIN 2120-AA66

Establishment, Modification and Revocation of VOR Federal Airways; East Central United States

AGENCY: Federal Aviation Administration (FAA), DOT.

ACTION: Final rule, correction.

SUMMARY: This action corrects a final rule published in the Federal Register on January 18, 2007 (72 FR 2182), Airspace Docket No. 06-ASW-1, FAA Docket No. FAA-2006-24926. In that rule, an inadvertent error was made in the legal description for VOR Federal Airway V-75. Specifically, the description did not exclude the portion of the airway that is in Canadian airspace. This action corrects that error.

EFFECTIVE DATE: 0901 UTC, March 15, 2007. The Director of the Federal Register approves this incorporation by reference action under 1 CFR part 51, subject to the annual revision of FAA Order 7400.9 and publication of conforming amendments.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

History

On January 18, 2007, the FAA published in the Federal Register a final rule establishing 14 VOR Federal Airways (V-176, V-383, V-396, V-406, V-410, V-416, V-418, V-426, V-467, V-486, V-542, V-584, V-586, and V-609); modifying 12 VOR Federal Airways (V-14, V-26, V-40, V-72, V-75, V-90, V-96, V-103, V-116, V-297, V-435, and V-526); and revoking one VOR Federal Airway (V-42) (72 FR 2182).

Subsequent to the issuance of the final rule, an inadvertent error was identified in the legal description for V-75. Specifically, the description did not exclude that portion of the airway that is located within Canadian airspace.

VOR Federal Airways are published in paragraph 6010 of FAA Order 7400.9P dated September 1, 2006, and effective September 15, 2006, which is incorporated by reference in 14 CFR 71.1. The VOR Federal Airways listed in this document will be published subsequently in the Order.

Correction to Final Rule

Accordingly, pursuant to the authority delegated to me, the legal description as published in the Federal Register on January 18, 2007 (72 FR 2182), Airspace Docket No. 06-ASW-1, FAA Docket No. FAA-2006-24926, and incorporated by reference in 14 CFR 71.1, is corrected as follows:

§ 71.1 [Amended]

Paragraph 6010 VOR Federal Airways.

* * * * *

V-75 [Corrected]

From Morgantown, WV; Bellaire, OH; Briggs, OH; DRYER, OH; INT DRYER 325° and Waterville, OH, 062° radials. The airspace within Canada is excluded.

* * * * *

Issued in Washington, DC, on February 2, 2007.
Edith V. Parish,
Manager, Airspace and Rules.

[FR Doc. E7-2229 Filed 2-9-07; 8:45 am]

BILLING CODE 4910-13-P